DEPARTMENT OF ENERGY

Electricity Advisory Committee

AGENCY: Office of Electricity, Department of Energy.

ACTION: Notice of open meeting.

SUMMARY: This notice announces a meeting of the Electricity Advisory Committee (EAC). The Federal Advisory Committee Act (FACA) requires that public notice of these meetings be announced in the Federal Register.

DATES:

Tuesday October 17, 2023; 1:00 p.m.-5:00 p.m. EST.

Wednesday October 18, 2023; 8:30 a.m.-12:00 p.m. EST.

ADDRESSES: National Rural Electric Cooperative Association Headquarters in Arlington, VA, 4301 Wilson Blvd., Suite 1, Arlington, VA 22203. Members of the public are encouraged to participate virtually, however, limited physical space is available for members of the public to attend onsite. To register to attend either in-person or virtually, please visit the meeting website: https://www.energy.gov/oe/october-17-18-2023-electricity-advisory-committee-meeting. Please note, you must register for each day you would like to attend.

FOR FURTHER INFORMATION CONTACT: Ms. Jayne Faith, Designated Federal Officer, Office of Electricity, U.S. Department of Energy, Washington, DC 20585; Telephone: (202) 586-2983 or Email: Jayne.Faith@hq.doe.gov.

SUPPLEMENTARY INFORMATION: Purpose of the Committee: The EAC was established in accordance with the provisions of FACA, as amended, to provide advice to the U.S. Department of Energy (DOE) in implementing the Energy Policy Act of 2005, executing certain sections of the Energy Independence and Security Act of 2007, and modernizing the nation's electricity delivery infrastructure. The EAC is composed of individuals of diverse backgrounds selected for their technical expertise and experience, established records of distinguished professional service, and their knowledge of issues that pertain to the electric sector.

Tentative Agenda

October 17, 2023

12:45 p.m.-1:00 p.m. WebEx Attendee Sign-On

1:00 p.m.-1:15 p.m. Welcome, Introductions, Developments since June Meeting

1:15 p.m.-1:45 p.m. Update from the Office of Electricity

1:45 p.m.-2:30 p.m. Update on FERC Activities

2:30 p.m.-2:45 p.m. Break

2:45 p.m.-3:45 p.m. Presentation of EAC Reliability Work Product and Vote

3:45 p.m.-4:45 p.m. Moderated Discussion on Reliability

4:45 p.m.-5:00 p.m. Wrap-up and Adjourn Day 1 of October EAC Meeting

October 18, 2023

8:00 a.m.-8:30 a.m. WebEx Attendee Sign-On

8:30 a.m.-8:45 a.m. Opening Remarks

8:45 a.m.-9:45 a.m. Moderated Discussion on Energy Storage

9:45 a.m.-10:00 a.m. Break

10:00 a.m.-11:00 a.m. Update from the Office of Cybersecurity, Energy Security and Emergency Response Activities

11:00 a.m.-11:10 a.m. Energy Storage Subcommittee Update

11:10 a.m.-11:20 a.m. Smart Grid Subcommittee Update

11:20 a.m.-11:30 a.m. GRNS Subcommittee Update

11:30 a.m.-11:45 a.m. Public Comments

11:45 a.m.-12:00 p.m. Wrap-up and Adjourn October Meeting of the EAC

The meeting agenda and times may change to accommodate EAC business. For EAC agenda updates, see the EAC website at: https://www.energy.gov/oe/october-17-18-2023-electricity-advisory-committee-meeting.

Public Participation: The EAC welcomes the attendance of the public at its meetings. Individuals who wish to offer public comments at the EAC meeting may do so on October 18, 2023, but must register in advance by 5:00 p.m. Eastern time on October 17, 2023, by sending a written request identified by “Electricity Advisory Committee October 2023 Meeting,” to Ms. Jayne Faith at Jayne.Faith@hq.doe.gov. Approximately 15 minutes will be reserved for public comments. Time allotted per speaker will depend on the number who wish to speak but is not expected to exceed three minutes. Anyone who is not able to attend the meeting, or for whom the allotted public comments time is insufficient to address pertinent issues with the EAC, is invited to send a written statement identified by “Electricity Advisory Committee October 2023 Meeting,” to Ms. Jayne Faith at Jayne.Faith@hq.doe.gov.

Minutes: The minutes of the EAC meeting will be posted on the EAC web page at https://www.energy.gov/oe/october-17-18-2023-electricity-advisory-committee-meeting. They can also be obtained by contacting Ms. Jayne Faith at the address above.

Signed in Washington, DC, on September 19, 2023.
LaTanya Butler,
Deputy Committee Management Officer.

[FR Doc. 2023-20584 Filed 9-21-23; 8:45 am]

BILLING CODE 6450-01-P